Presidential Determination No. 2004-51 of September 24, 2004

Determination to Make Available Assistance for Sudan

Memorandum for the Secretary of State[,] the Secretary of the

Treasury[,] the Secretary of Defense[, and] the Administrator, United States Agency for International Development

Consistent with the authority vested in me by the Emergency Supplemental Appropriations Act for Defense and for the Reconstruction of Iraq and Afghanistan, 2004 (Public Law 108-106), under the heading “International Disaster and Famine Assistance,” I hereby determine that it is in the national interest of the United States and essential to efforts to reduce international terrorism to furnish $20 million in assistance for Sudan from funds made available under that heading.

The Secretary of State is authorized and directed to report this determination to the Congress and to arrange for its publication in the Federal Register.

B

THE WHITE HOUSE,

Washington, September 24, 2004.

[FR Doc. 04-22101

Filed 9-29-04; 8:45 am]

Billing code 4710-10-P